OFFICE OF PERSONNEL MANAGEMENT

5 CFR Part 532

RIN 3206-AL81

Prevailing Rate Systems; Redefinition of the Lake Charles-Alexandria and New Orleans, LA, Appropriated Fund Federal Wage System Wage Areas

AGENCY: U.S. Office of Personnel Management.

ACTION: Final rule.

SUMMARY: The U.S. Office of Personnel Management is issuing a final rule to redefine the geographic boundaries of the Lake Charles-Alexandria and New Orleans, LA, appropriated fund Federal Wage System (FWS) wage areas. The final rule redefines Iberia and St. Martin Parishes, LA, from the New Orleans wage area to the Lake Charles-Alexandria wage area. These changes are based on consensus recommendations of the Federal Prevailing Rate Advisory Committee (FPRAC) to best match the counties proposed for redefinition to a nearby FWS survey area. FPRAC recommended no other changes in the geographic definitions of the Lake Charles-Alexandria and New Orleans wage areas.

DATES: This regulation is effective on September 21, 2009.

FOR FURTHER INFORMATION CONTACT: Madeline Gonzalez, (202) 606-2838; e-mail pay-performance-policy@opm.gov; or FAX: (202) 606-4264.

SUPPLEMENTARY INFORMATION: On March 9, 2009, the U.S. Office of Personnel Management (OPM) issued a proposed rule (74 FR 9967) to redefine Iberia and St. Martin Parishes, LA, from the New Orleans, LA, wage area to the Lake Charles-Alexandria, LA, wage area. These changes are based on consensus recommendations of the Federal Prevailing Rate Advisory Committee. The proposed rule had a 30-day comment period, during which OPM received no comments.

Regulatory Flexibility Act

I certify that these regulations will not have a significant economic impact on a substantial number of small entities because they will affect only Federal agencies and employees.

List of Subjects in 5 CFR Part 532

Administrative practice and procedure, Freedom of Information, Government employees, Reporting and recordkeeping requirements, Wages.

U.S. Office of Personnel Management.
John Berry,
Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of Louisiana is amended by revising the listings for Lake Charles-Alexandria and New Orleans, to read as follows:

Appendix C to Subpart B of Part 532—Appropriated Fund Wage and Survey Areas

* * * * *

LOUISIANA

Lake Charles-Alexandria

Survey Area

Louisiana: Allen, Beauregard, Calcasieu, Grant, Rapides, Sabine, Vernon

Area of Application. Survey Area Plus

Louisiana: Acadia, Avoyelles, Caldwell, Cameron, Catahoula, Concordia, Evangeline, Franklin, Iberia, Jefferson Davis, Lafayette, La Salle, Madison, Natchitoches, St. Landry, St. Martin, Tensas, Vermilion, Winn

New Orleans

Survey Area

Louisiana: Jefferson, Orleans, Plaquemines, St. Bernard, St. Charles, St. John the Baptist, St. Tammany

Area of Application. Survey Area Plus

Louisiana: Ascension, Assumption, East Baton Rouge, East Feliciana, Iberville, Lafourche, Livingston, Pointe Coupee, St. Helena, St. James, St. Mary, Tangipahoa, Terrebonne, Washington, West Baton Rouge, West Feliciana

* * * * *

[FR Doc. E9-20049 Filed 8-20-09; 8:45 am]

BILLING CODE 6325-39-P